DEPARTMENT OF TRANSPORTATION

Surface Transportation Board

[Docket No. AB 1087 (Sub-No. 1X)]

Grenada Railway LLC—Abandonment Exemption—in Montgomery, Carroll, Holmes, Yazoo and Madison Counties, Miss.

On December 17, 2013, Grenada Railway LLC (GRYR) filed with the Surface Transportation Board (Board) a petition under 49 U.S.C. 10502 for exemption from the provisions of 49 U.S.C. 10903 to abandon the southern segment of its line of railroad between milepost 626.1 near Elliott and milepost 703.8 near Canton, a distance of 77.7 miles in Montgomery, Carroll, Holmes, Yazoo, and Madison Counties, Miss.¹ The line traverses United States Postal Service Zip Codes 38925, 38967, 39176, 39192, 39063, 39079, 39146, and 39179, and includes the stations of Duck Hill, Eskridge, Winona, Vaiden, West, Durant, Goodman, Pickens, and Vaughan.

¹ GRYR was authorized to acquire this portion of the line sought to be abandoned from the Illinois Central Railroad Company in Grenada Railway, LLC—Acquisition & Operation Exemption—Illinois Central Railroad Company, Docket No. FD 35247 (STB served May 29, 2009). Originally, GRYR filed a petition for exemption to abandon the southern segment of the rail line, which included the line at issue here, in Grenada Railway LLC—Abandonment Exemption—in Grenada, Montgomery, Carroll, Holmes, Yazoo and Madison Counties, Miss., Docket No. AB 1087X. At GRYR's request, the petition was withdrawn and the proceeding was discontinued in a decision served on November 10, 2011. GRYR states that the line had been embargoed since July 26, 2011, due to a bridge located at milepost 656.4 that remains in disrepair and that the embargo expired on July 26, 2013. GRYR filed a motion for protective order pursuant to 49 CFR 1104.14(b) to allow the filing under seal of GRYR's profit and loss statements that are highly confidential that would not normally be made available to the public. The motion for a protective order was granted by a decision served on December 16, 2013.

GRYR states that the line does not contain federally granted rights-of-way. Any documentation in GRYR's possession regarding the line will be made available promptly to those requesting it.

The interest of railroad employees will be protected by the conditions set forth in Oregon Short Line Railroad—Abandonment Portion Goshen Branch Between Firth & Ammon, In Bingham & Bonneville Counties, Idaho, 360 I.C.C. 91 (1979).

By issuance of this notice, the Board is instituting an exemption proceeding pursuant to 49 U.S.C. 10502(b). A final decision will be issued by April 4, 2014.

Any offer of financial assistance (OFA) under 49 CFR 1152.27(b)(2) will be due no later than 10 days after service of a decision granting the petition for exemption. Each OFA must be accompanied by a $1,600 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than January 27, 2014. Each trail request must be accompanied by a $250 filing fee. See 49 CFR 1002.2(f)(27).

All filings in response to this notice must refer to Docket No. AB 1087 (Sub-No. 1X), and must be sent to: (1) Surface Transportation Board, 395 E Street SW., Washington, DC 20423-0001; and (2) Fritz R. Kahn, Fritz R. Kahn, P.C., 1919 M Street NW. (7th Floor), Washington, DC 20036. Replies to the petition are due on or before January 27, 2014.²

² On December 27, 2013, Robert Riley filed a motion to reject the petition. Riley's motion will be addressed in a separate Board decision.

Persons seeking further information concerning abandonment procedures may contact the Board's Office of Public Assistance, Governmental Affairs and Compliance at (202) 245-0238 or refer to the full abandonment or discontinuance regulations at 49 CFR pt. 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA generally will be within 30 days of its service.

Board decisions and notices are available on our Web site at “www.stb.dot.gov.”

Decided: December 30, 2013.
By the Board, Rachel D. Campbell, Director, Office of Proceedings.
Derrick A. Gardner,
Clearance Clerk.

[FR Doc. 2013-31509 Filed 1-3-14; 8:45 am]

BILLING CODE 4915-01-P